DEPARTMENT OF COMMERCE

Foreign-Trade Zones Board

[Docket 6-2008]

Foreign-Trade Zone 42 Orlando, FL

Application for Expansion of Manufacturing Authority

Subzone 42A Mitsubishi Power Systems Americas, Inc.

(Power Generation Turbine Components)

An application has been submitted to the Foreign-Trade Zones Board (the Board) by the Greater Orlando Aviation Authority, grantee of FTZ 42, on behalf of Mitsubishi Power Systems Americas, Inc. (MPSA), operator of Subzone 42A at the MPSA power generation turbine components repair/ manufacturing plant in Orlando, Florida, requesting an expansion of the scope of FTZ manufacturingauthority to include new manufacturing capacity and finished products. The application was submitted pursuant to the provisions of the Foreign-Trade Zones Act, as amended (19 U.S.C. 81a-81u), and section 400.28(a)(2) of the Board's regulations (15 CFR Part 400). It was formally filed on February 6, 2008.

Subzone 42A was approved in 2002 for the manufacture and repair of large gas-fired power generation turbine components (combustor baskets and transition pieces; up to 1,800 total units annually) at the MPSA plant (306 employees/15 acres/80,000 sq.ft. of production area) in Orlando, Florida (Board Order 1234, 67 FR 45456, 7-9-2002). The applicant currently requests that the scope of FTZ manufacturing authority be extended to include an additional 81,500 square feet of production area to accommodate additional production capacity (new total would be 161,500 sq.ft.), which will be added with a new facility within the existing boundaries of Subzone 42A. The new capacity would be used to manufacture and repair additional steam and gas turbine components. MPSA's existing FTZ authority for the manufacture of combustor baskets and transition pieces would remain unchanged.

Under the proposal, MPSA would manufacture stainless steel steam turbine blades and vanes (up to 2,200 total units per year) for the U.S. market and export. Activity would involve receiving foreign-origin semi-finished forgings (classified under HTSUS 8406.81, 8406.90) that would be machined, finished, and coated to produce finished steam turbine blades and vanes. Some 70 percent of the finished blades and vanes will be exported.

Expanded FTZ procedures would continue to exempt MPSA from customs duty payments on the foreign-origin inputs used in production for export. On domestic shipments, the company would be able to defer duty payments on the foreign inputs until they would be entered for U.S. consumption. FTZ procedures may also result in increased logistical/supply chain efficiencies for MPSA's distribution operations.

Public comment is invited from interested parties. Submissions (original and 3 copies) shall be addressed to the Board's Executive Secretary at the following address: Office of the Executive Secretary, Room 2111, U.S. Department of Commerce, 1401 Constitution Avenue, NW,Washington, DC 20230-0002. The closing period for receipt of comments is April 21, 2008. Rebuttal comments in response to material submitted during the foregoing period may be submitted during the subsequent 15-day period to May 5, 2008.

A copy of the application will be available for public inspection at each of the following locations: U.S. Department of Commerce Export Assistance Center, Suite 100, 315 East Robinson Street, Orlando, FL 32801; and, at the Office of the Foreign-Trade Zones Board's Executive Secretary at the address listed above. For further information, contact Pierre Duy, examiner, at: pierre_duy@ita.doc.gov, or (202) 482-1378.

Dated: February 6, 2008.
Andrew McGilvray,
Executive Secretary.

[FR Doc. E8-3152 Filed 2-19-08; 8:45 am]

BILLING CODE 3510-DS-S